DEPARTMENT OF LABOR

Employment and Training Administration

Investigations Regarding Certifications of Eligibility to Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 29, 2005.

Interested persons are invited to submit written comments regarding the subject matter of the investigations to the Director, Division of Trade Adjustment Assistance, at the address shown below, not later than September 29, 2005.

The petitions filed in this case are available for inspection at the Office of the Director, Division of Trade Adjustment Assistance, Employment and Training Administration, U.S. Department of Labor, Room C-5311, 200 Constitution Avenue, NW., Washington, DC 20210.

Signed at Washington, DC this 7th day of September 2005.
Timothy Sullivan,
Director, Division of Trade Adjustment Assistance.

Appendix
[Petitions instituted between 08/01/2005 and 08/12/2005]
TA-W | Subject firm (petitioners) | Location | Date of institution | Date of petition
57,651 | Cerwin—Vega (State) | Chatsworth, CA | 08/01/2005 | 07/27/2005
57,652 | Fibrelume U.S. (Comp) | New Bedford, MA | 08/01/2005 | 07/29/2005
57,653 | Northwest Automatic Products, Inc. (State) | Minneapolis, MN | 08/01/2005 | 08/01/2005
57,654 | Oriental Accent, Inc. (Comp) | Farmers Branch, TX | 08/01/2005 | 08/01/2005
57,655 | Interforest Corp. (8/1/20) | Darlington, PA | 08/01/2005 | 07/21/2005
57,656 | Sun's Manufacturing, Inc. (Wkrs) | Lansford, PA | 08/01/2005 | 07/23/2005
57,657 | Midas International Corporation (USWA) | Hartford, WI | 08/01/2005 | 07/30/2005
57,658 | Kellwood Company (Comp) | Calhoun City, MS | 08/02/2005 | 07/28/2005
57,659 | V.F. Intimates L.P. (Comp) | McAllen, TX | 08/02/2005 | 08/01/2005
57,660 | Coto Div. of Kearney-National, Inc. (Comp) | Providence, RI | 08/02/2005 | 08/01/2005
57,661 | B and K Acquisition Co., Inc. (Comp) | Murrysville, PA | 08/03/2005 | 07/25/2005
57,662 | Eagle Ottawa, LLC (Comp) | Rochester Hills, MI | 08/03/2005 | 07/01/2005
57,663 | Kyocera Tycom Corp. (Comp) | Owego, NY | 08/03/2005 | 07/28/2005
57,664 | Flow Controls (Comp) | St. Louis, MO | 08/03/2005 | 07/29/2005
57,665 | American Outpost, LLC (Wkrs) | Zelienople, PA | 08/03/2005 | 07/25/2005
57,666A | Philips Semiconductors (NPC) | San Jose, CA | 08/03/2005 | 07/25/2005
57,666 | Philips Semiconductors (NPC) | Longmont, CO | 08/03/2005 | 07/25/2005
57,667 | Morrison Products, Inc. (State) | Tempe, AZ | 08/03/2005 | 08/02/2005
57,668 | Culp, Inc. (Wkrs) | Shelby, NC | 08/03/2005 | 08/02/2005
57,669 | Taymar Industries, Inc. (Wkrs) | Indio, CA | 08/04/2005 | 07/25/2005
57,670 | Henkel Corporation (Comp) | Olean, NY | 08/04/2005 | 07/14/2005
57,671 | Kellogg's Snack Division (Wkrs) | Macon, GA | 08/04/2005 | 07/19/2005
57,672 | Cambridge Lee Industry (USWA) | Reading, PA | 08/04/2005 | 08/04/2005
57,673 | Venture Industries (Wkrs) | Hopkinsville, KY | 08/04/2005 | 08/04/2005
57,674 | Interlake Material Handling, Inc. (UAW) | Pontiac, IL | 08/05/2005 | 08/03/2005
57,675 | Lincoln Brass Works (Comp) | Waynesboro, TN | 08/05/2005 | 08/03/2005
57,676 | Clayson Knitting Co. (Wkrs) | Red Springs, NC | 08/05/2005 | 08/01/2005
57,677 | Brackett Trucking Co., Inc. (Comp) | Bostic, NC | 08/05/2005 | 08/01/2005
57,678 | B.A.G. Corp (Comp) | Pennington Gap, VA | 08/05/2005 | 08/04/2005
57,679 | Eastern Tool and Stamping Co., Inc. (Wkrs) | Saugus, MA | 08/05/2005 | 07/25/2005
57,680 | Joan Fabrics Corporation (Comp) | Newton, NC | 08/05/2005 | 08/05/2005
57,681 | Roaring Spring Blank Book Co. (USWA) | Roaring Spring, PA | 08/05/2005 | 08/05/2005
57,682 | Best: Artex, LLC (Wkrs) | Westpoint, MS | 08/05/2005 | 07/20/2005
57,683 | National Spinning Co., LLC (Comp) | Burlington, NC | 08/05/2005 | 07/15/2005
57,684 | Rittal Corporation (Wkrs) | Springfield, OH | 08/05/2005 | 07/27/2005
57,685 | Tiro Industries, LLC (Wkrs) | Fridley, MN | 08/05/2005 | 07/22/2005
57,686 | Raybestos Automotive Componenets (UAW) | Sterling Heights MI | 08/05/2005 | 08/02/2005
57,687 | IBM Global Services (State) | Phoenix, AZ | 08/08/2005 | 08/01/2005
57,688 | O'Sullivan Industries, Inc. (Comp) | Lamar, MO | 08/08/2005 | 08/02/2005
57,689 | Sony Electronics, Inc. (Wkrs) | Mt. Pleasant, PA | 08/08/2005 | 08/08/2005
57,690 | Keys Health and Fitness, LP (State) | Tyler, TX | 08/08/2005 | 08/05/2005
57,691 | Falcon Products (Comp) | Morristown, TN | 08/08/2005 | 08/08/2005
57,692 | CML Innovative Technologies (Wkrs) | Hackensack, NJ | 08/08/2005 | 08/05/2005
57,693 | Ironees Company (The) (Wkrs) | Philadelphia, PA | 08/08/2005 | 07/25/2005
57,694 | Cequent Consumer Products (Comp) | Sheffield, PA | 08/08/2005 | 08/03/2005
57,695 | Gerome Manufacturing (State) | Newberg, OR | 08/09/2005 | 08/08/2005
57,696 | ICU Medical (State) | Salt Lake City, UT | 08/09/2005 | 08/05/2005
57,697 | Dorr-Oliver Eimco (Comp) | Salt Lake City, UT | 08/09/2005 | 08/08/2005
57,698 | Action Staffing—Seneca Office (State) | Clemson, SC | 08/09/2005 | 08/09/2005
57,699 | Rockwell Collins (Wkrs) | Kirkland, WA | 08/09/2005 | 08/08/2005
57,700 | Joy Mining Machinery (IBB) | Mt. Vernon, IL | 08/09/2005 | 08/02/2005
57,701 | Old Pro Cover Company (Comp) | Holly Hill, SC | 08/09/2005 | 08/08/2005
57,702 | Plastic Dress-Up Co. (State) | El Monte, CA | 08/09/2005 | 08/09/2005
57,703 | DPS Enterprises, Inc. (Comp) | Macon, GA | 08/10/2005 | 07/27/2005
57,704 | Sanmina-SCI (Comp) | Clinton, NC | 08/10/2005 | 08/04/2005
57,705 | Components Manufacturing Co. (Comp) | Trenton, SC | 08/10/2005 | 08/01/2005
57,706 | Martin Crafting Co., Inc. (Comp) | McMinnville, Tn | 08/10/2005 | 07/20/2005
57,707 | Guardian Manufacturing (USW) | Willard, OH | 08/10/2005 | 07/28/2005
57,708 | Milwaukee Sign (State) | Grafton, WI | 08/11/2005 | 08/10/2005
57,709 | AMI Doduco (Works) | Reidsville, NC | 08/11/2005 | 08/05/2005
57,710 | Braden Mfg., LLC (Wkrs) | Tulsa, OK | 08/11/2005 | 08/05/2005
57,711 | Baxter (Comp) | Deerfield, IL | 08/11/2005 | 08/08/2005
57,712 | G and L Motion Control, Inc. (Comp) | Fond du Lac, WI | 08/11/2005 | 08/09/2005
57,713 | L.A. T Sportswear, LLC (Comp) | Ball Ground, GA | 08/11/2005 | 08/08/2005
57,714 | U.S. Button Corporation (State) | Putnam, CT | 08/11/2005 | 08/08/2005
57,715 | Sanmina-SCI Corporation (Comp) | Fountain, CO | 08/11/2005 | 08/09/2005
57,716 | Daimler Chrysler Commercial Bus (Comp) | Greensboro, NC | 08/11/2005 | 08/04/2005
57,717 | Hooker Furniture Corporation (Comp) Garden, NC | Pleasant Garden, NC | 08/11/2005 | 08/08/2005
57,718 | Flextronics International USA (Comp) | Norwood, MA | 08/11/2005 | 08/04/2005
57,719 | Swan Dying and Printing Corp. (State) | Fall River, MA | 08/11/2005 | 08/08/2005
57,720 | Northwest Hardwood (State) | Little Rock, AR | 08/11/2005 | 08/10/2005
57,721 | Sony (Wkrs) | Mt. Pleasant, PA | 08/11/2005 | 08/05/2005
57,722 | Janesville Sacknee Group (IBT) | Janesville, WI | 08/11/2005 | 08/10/2005
57,723 | Carlisle Engineered Products, Inc. (Wkrs) | Lake City, PA | 08/11/2005 | 08/05/2005
57,724 | Dan River, Inc. (Comp) | Danville, VA | 08/11/2005 | 08/10/2005
57,725 | Hill-Rom Co., Inc. (Wkrs) | Batesville, IN | 08/11/2005 | 08/10/2005
57,726 | General Electric (Comp) | Tell City, IN | 08/11/2005 | 08/10/2005
57,727 | Old Mother Hubbard (State) | Chelmsford, MA | 08/11/2005 | 08/11/2005
57,728 | J.E. Morgan Knitting Mills (Sara Lee) (Comp) | Tamaqua, PA | 08/12/2005 | 08/12/2005
57,729 | Teleflex Medical (Comp) | RTP, NC | 08/12/2005 | 08/12/2005
57,730 | Garan Mfg. (Comp) | Starkville, MS | 08/12/2005 | 08/11/2005
57,731 | Teepak, LLC (Comp) | Danville, IL | 08/12/2005 | 08/11/2005
57,732 | Microtek Medical, Inc. (Wkrs) | Columbus, MS | 08/12/2005 | 08/12/2005
57,733 | HBC Barge, LLC (Comp) | Brownsville, PA | 08/12/2005 | 08/12/2005
57,734 | Focus Enhancements (State) | Campbell, CA | 08/12/2005 | 08/05/2005
57,735 | Kamashian Engineering (State) | Bellflower, CA | 08/12/2005 | 08/04/2005
57,736 | Owensboro Manufacturing, LLC (Comp) | Owensboro, KY | 08/12/2005 | 08/02/2005
57,737 | Caribou Ltd. (State) | Hicksville, NY | 08/12/2005 | 07/29/2005
57,738 | Vander-Bend Mfg., LLC (Comp) | Sunnyvale, CA | 08/12/2005 | 08/01/2005
57,739 | Bon Worth, Inc. (Comp) | Hendersonville, NC | 08/12/2005 | 08/04/2005

[FR Doc. 05-18547 Filed 9-16-05; 8:45 am]

BILLING CODE 4510-30-P